DEPARTMENT OF AGRICULTURE

Foreign Agricultural Service

Trade Adjustment Assistance for Farmers

AGENCY: Foreign Agricultural Service, USDA.

ACTION: Notice.

The Administrator, Foreign Agricultural Service (FAS), today accepted a petition filed by the National Grape Cooperative Association representing Washington Concord juice grape producers for trade adjustment assistance. The Administrator will determine within 40 days whether or not increasing grape juice, not from concentrate, imports contributed importantly to a decline in domestic producer prices of 20 percent or more during the marketing period beginning August 1, 2004, and ending July 31, 2005. If the determination is positive, all producers who produce and market their Concord juice grapes in Washington will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: February 10, 2006.
Ellen A. Terpstra,
Administrator, Foreign Agricultural Service.

[FR Doc. E6-2400 Filed 2-17-06; 8:45 am]

BILLING CODE 3410-10-P